DEPARTMENT OF THE INTERIOR

Bureau of Reclamation

Agency Information Collection; Activities Under OMB Review; Comment Request

AGENCY: Bureau of Reclamation, Interior.

ACTION: Notice of renewal of a currently approved collection (OMB No. 1006-0015).

SUMMARY: In compliance with the Paperwork Reduction Act (44 U.S.C. 3501 et seq.), the Bureau of Reclamation (Reclamation) has forwarded the following Information Collection Request (ICR) to the Office of Management and Budget (OMB) for review and approval: Diversions, Return Flows, and Consumptive Use of Colorado River Water in the Lower Colorado River Basin, OMB Control Number: 1006-0015. The ICR describes the nature of the information collection and its expected cost and burden.

DATES: Comments on this notice must be received by September 21, 2009.

ADDRESSES: You may send written comments to the Desk Officer for the Department of the Interior at the Office of Management and Budget, Office of Information and Regulatory Affairs, via facsimile at 202-395-5806 or by e-mail to OIRA_DOCKET@omb.eop.gov. A copy of your comments should also be directed to the Bureau of Reclamation, Attention: Nancy DiDonato (BCOO-4445), Contract and Repayment Specialist, Lower Colorado Regional Office, P.O. Box 61470, Boulder City, NV 89006-1470.

FOR FURTHER INFORMATION CONTACT: For further information or a copy of the proposed collection of information, contact Nancy DiDonato at 702-293-8532.

SUPPLEMENTARY INFORMATION: Title: Diversions, Return Flow, and Consumptive Use of Colorado River Water in the Lower Colorado River Basin.

OMB No.: 1006-0015.

Form No.: LC-72, 72A, 72B.

Abstract: Reclamation delivers Colorado River water to water users for diversion and beneficial consumptive use in the States of Arizona, California, and Nevada. The Consolidated Decree of the United States Supreme Court in the case of Arizona v. California, et al., entered March 27, 2006, (547 U.S. 150 (2006)), requires the Secretary of the Interior to prepare and maintain complete, detailed, and accurate records of diversions of water, return flow, and consumptive use and make these records available at least annually. This information is needed to ensure that a State or a water user within a State does not exceed its authorized use of Colorado River water. Water users are obligated by provisions in their water delivery contracts to provide Reclamation information on diversions and return flows. Reclamation determines the consumptive use by subtracting return flow from diversions or by other engineering means. Without the information collected, Reclamation could not comply with the order of the United States Supreme Court to prepare and maintain detailed and accurate records of diversions, return flow, and consumptive use. Responses are required to obtain a benefit.

Description of respondents: The respondents will include the Lower Basin States (Arizona, California, and Nevada), local and tribal entities, water districts, and individuals that use Colorado River water.

Frequency: Monthly, annually, or otherwise as determined by the Secretary of the Interior.

Estimated Total Number of Respondents: 54.

Estimated Total Number of Annual Responses: 330.

Estimated Total Annual Burden Hours: 290.

Estimated Burden for Each Form:

Form No. | Estimated number of respondents | Total responses per year | Estimated annual burden hours per form
LC-72 | 6 | 78 | 54
LC-72A | 8 | 20 | 30
LC-72B | 15 | 51 | 78
Custom Forms | 25 | 181 | 128
Total | 54 | 330 | 290

Comments:

Reclamation invites your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

An agency may not conduct or sponsor, and a person is not required to respond to a collection of information unless it displays a currently valid OMB control number. Reclamation will display a valid OMB control number on all forms covered under OMB Control Number 1006-0015.

A Federal Register notice with a 60-day comment period soliciting comments on this collection of information was published in the Federal Register (74 FR 17982, April 20, 2009). No public comments were received.

OMB has up to 60 days to approve or disapprove this information collection, but may respond after 30 days; therefore, public comment should be submitted to OMB within 30 days in order to assure maximum consideration.

Before including your address, telephone number, e-mail address, or other personal identifying information in your comment, you should be aware that your entire comment (including your personal identifying information) may be made publicly available at any time. While you can ask us in your comment to withhold your personal identifying information from public review, we cannot guarantee that we will be able to do so.

Steven C. Hvinden,
Area Manager, Boulder Canyon Operations Office, Lower Colorado Region, Bureau of Reclamation.

[FR Doc. E9-20051 Filed 8-19-09; 8:45 am]

BILLING CODE 4310-MN-P